DEPARTMENT OF HEALTH AND HUMAN SERVICES

Administration for Children and Families

[CFDA Number: 93.676]

Announcement of the Award of One Single-Source Low-Cost Extension Supplement Grant Within the Office of Refugee Resettlement's Unaccompanied Children's Program

AGENCY: Office of Refugee Resettlement (ORR), Administration for Children and Families (ACF), U.S. Department of Health and Human Services (HHS).

ACTION: Notice of award of one single-source low-cost extension supplement grant under the Unaccompanied Children's (UC) Program.

SUMMARY: ACF, ORR, announces the award of one single-source low-cost extension supplement grant for a total of $93,597,707 under the UC Program.

DATES: Low-cost extension supplement grants will support activities from January 1, 2017, through March 31, 2017.

FOR FURTHER INFORMATION CONTACT: Jallyn Sualog, Director, Division of Unaccompanied Children Operations, Office of Refugee Resettlement, 330 C Street SW., Washington, DC 20201. Telephone: (202) 401-9246. Email: DCSProgram@acf.hhs.gov.

SUPPLEMENTARY INFORMATION: The following supplement grant will support the immediate need for additional capacity of shelter services to accommodate the increasing number of UC referred by the Department of Homeland Security (DHS) into ORR care. The increase in the UC population necessitates the expansion of services to expedite the release of UC.

ORR has specific requirements for the provision of services. Award recipients must have the infrastructure, licensing, experience, and appropriate level of trained staff to meet those requirements. The expansion of the existing shelter services program through this supplemental award is a key strategy for ORR to be prepared to meet its responsibility of safe and timely release of UC referred to its care by DHS and so that the US Border Patrol can continue its vital national security mission to prevent illegal migration and trafficking, and protect the borders of the United States.

Statutory Authority

This program is authorized by—

(A) Section 462 of the Homeland Security Act of 2002, which in March 2003, transferred responsibility for the care and custody of Unaccompanied Alien Children from the Commissioner of the former Immigration and Naturalization Service to the Director of ORR of the U.S. Department of Health and Human Services (HHS).

(B) The Flores Settlement Agreement, Case No. CV85-4544RJK (C. D. Cal. 1996), as well as the William Wilberforce Trafficking Victims Protection Reauthorization Act of 2008 (Pub. L. 110-457), which authorizes post-release services under certain conditions to eligible children. All programs must comply with the Flores Settlement Agreement, Case No. CV85-4544-RJK (C.D. Cal. 1996), pertinent regulations and ORR policies and procedures.

Christopher Beach,
Senior Grants Policy Specialist, Division of Grants Policy, Office of Administration, Administration for Children and Families.

[FR Doc. 2017-11210 Filed 5-31-17; 8:45 am]

BILLING CODE 4184-45-P